DEPARTMENT OF HOMELAND SECURITY

Federal Emergency Management Agency

44 CFR Part 67

[Docket ID FEMA-2014-0002; Internal Agency Docket No. FEMA-B-1220]

Proposed Flood Elevation Determinations for St. Mary Parish, Louisiana, and Incorporated Areas

AGENCY: Federal Emergency Management Agency, DHS.

ACTION: Proposed rule; withdrawal.

SUMMARY: The Federal Emergency Management Agency (FEMA) is withdrawing its proposed rule concerning proposed flood elevation determinations for St. Mary Parish, Louisiana, and Incorporated Areas.

DATES: This withdrawal is effective on June 8, 2015.

ADDRESSES: You may submit comments, identified by Docket No. FEMA-B-1220, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On September 28, 2011, FEMA published a proposed rulemaking at 76 FR 59962, proposing flood elevation determinations along one or more flooding sources in St. Mary Parish, Louisiana, and Incorporated Areas. FEMA is withdrawing the proposed rulemaking because FEMA has or will be issuing a Revised Preliminary Flood Insurance Rate Map, and if necessary a Flood Insurance Study report, featuring updated flood hazard information. A Notice of Proposed Flood Hazard Determinations will be published in the Federal Register and in the affected community's local newspaper following issuance of the Revised Preliminary Flood Insurance Rate Map.

Authority: 42 U.S.C. 4104; 44 CFR 67.4.

Dated: May 21, 2015.
Roy E. Wright,
Deputy Associate Administrator for Mitigation, Department of Homeland Security, Federal Emergency Management Agency.

[FR Doc. 2015-13867 Filed 6-5-15; 8:45 am]

BILLING CODE 9110-12-P